DEPARTMENT OF TRANSPORTATION

Pipeline and Hazardous Materials Safety Administration

[Docket No. PHMSA-2012-0215]

Pipeline Safety: Information Collection Activities

AGENCY: Pipeline and Hazardous Materials Safety Administration (PHMSA), DOT.

ACTION: Notice and request for comments of a previously approved information collection.

SUMMARY: In compliance with the Paperwork Reduction Act of 1995 (44 U.S.C. 3501 et seq.), this notice announces that the Information Collection Requests abstracted below are being forwarded to the Office of Management and Budget (OMB) for review and comments. A Federal Register notice with a 60-day comment period soliciting comments on the following information collections was published on August 27, 2012, (77 FR 51848) under docket number PHMSA-2012-0094. No comments were received. The purpose of this notice is to allow the public an additional 30 days to send comments to OMB on the information collections described below.

DATES: Comments must be submitted on or before January 14, 2013.

ADDRESSES: Send comments regarding the burden estimate, including suggestions for reducing the burden, to OMB, Attention: Desk Officer for the Office of the Secretary of Transportation, 725 17th Street NW., Washington, DC 20503.

Comments are invited on: Wether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

FOR FURTHER INFORMATION CONTACT: Angela Dow by telephone at 202-366-1246, by fax at 202-366-4566, or by mail at U.S. Department of Transportation, PHMSA, 1200 New Jersey Avenue SE, PHP-30, Washington, DC 20590-0001.

SUPPLEMENTARY INFORMATION: Title: Pipeline Safety: Control Room Management/Human Factors.

OMB Control Number: 2137-0624.

Type of Request: Renewal of a Previously Approved Information Collection.

Current Expiration Date: 1/31/2013.

Abstract: 49 CFR 192.631 and 195.446 address human factors and other components of control room management. These regulations require operators of hazardous liquid pipelines and gas pipelines to develop and implement a human factors management plan designed to reduce risk associated with human factors in each control room.

Affected Public: Operators of both natural gas and hazardous liquid pipeline systems.

Annual Reporting and Recordkeeping Burden:

Total Annual Responses: 2,702.

Total Annual Burden Hours: 127,328.

Frequency of Collection: On occasion.

Title: Integrity Management Program for Gas Distribution Pipelines.

OMB Control Number: 2137-0625.

Type of Request: Renewal of a Previously Approved Information Collection.

Current Expiration Date: 1/31/2013.

Abstract: The Federal Pipeline Safety Regulations in 49 CFR, Part 192, Subpart P require operators of gas distribution pipelines to develop and implement integrity management (IM) programs. The purpose of these programs is to enhance safety by identifying and reducing pipeline integrity risks. PHMSA requires that operators maintain records demonstrating compliance with these requirements for 10 years and that these records must include superseded IM plans.

Affected Public: Operators of gas distribution pipeline systems.

Annual Reporting and Recordkeeping Burden:

Total Annual Responses: 9,343.

Total Annual Burden Hours: 865,178.

Frequency of Collection: On occasion.

Authority: The Paperwork Reduction Act of 1995; 44 U.S.C. Chapter 35, as amended, and 49 CFR 1:48.

Issued in Washington, DC, on December 10, 2012.
John A. Gale,
Director, Office of Standards and Rulemaking.

[FR Doc. 2012-30096 Filed 12-12-12; 8:45 am]

BILLING CODE 4910-60-P